DEPARTMENT OF DEFENSE

Office of the Secretary

32 CFR Part 199

[DOD-2007-HA-0048]

RIN 0720-AB16

TRICARE; Outpatient Hospital Prospective Payment System (OPPS)

AGENCY: Office of the Secretary, DoD.

ACTION: Interim final rule; withdrawal.

SUMMARY: On August 14, 2007, the Department of Defense published an interim final rule on TRICARE; Outpatient Hospital Prospective Payment System (OPPS) in error at 72 FR 45359. The rule has not been approved for publication and cannot take effect. This document withdraws that rule.

DATES: Effective Date: The interim final rule amending 32 CFR Part 199, published on August 14, 2007 (72 FR 45359) is withdrawn effective August 17, 2007.

FOR FURTHER INFORMATION CONTACT: L.M. Bynum 703-696-4970.

SUPPLEMENTARY INFORMATION:

List of Subjects in 32 CFR Part 199

Claims, Dental health, Health care, Health insurance, Individuals with disabilities, Military personnel.

The interim rule published on August 14, 2007 amending 32 CFR part 199 is hereby withdrawn.

Dated: August 14, 2007.
L.M. Bynum,
Alternate OSD Federal Register Liaison Officer, DoD.

[FR Doc. 07-4042 Filed 8-14-07; 3:42 pm]

BILLING CODE 5001-06-M